DEPARTMENT OF JUSTICE

[OMB Number 1121-0094]

Bureau of Justice Statistics; Agency Information Collection Activities; Proposed eCollection eComments Requested; Revision of a Currently Approved Collection: Annual Survey of Jails; Deaths in Custody Reporting Program—Local Jails; Survey of Jails in Indian Country

AGENCY: Bureau of Justice Statistics, Department of Justice.

ACTION: 60-day Notice.

SUMMARY: The Department of Justice (DOJ), Office of Justice Programs, Bureau of Justice Statistics, will be submitting a revision to an existing information collection to the Office of Management and Budget (OMB) for review and approval in accordance with the Paperwork Reduction Act of 1995.

DATES: Comments are encouraged and will be accepted for 60 days until July 17, 2017.

FOR FURTHER INFORMATION CONTACT: If you have additional comments especially on the estimated public burden or associated response time, suggestions, or need a copy of the proposed information collection instrument with instructions or additional information, please contact Mary Cowhig, Statistician, Bureau of Justice Statistics, 810 Seventh Street NW., Washington, DC 20531 (email: mary.cowhig@usdoj.gov; telephone: 202-353-4982).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this Information Collection Revision:

1. Type of Information Collection: Revision of a currently approved collection.

2. The Title of the Form/Collection: Annual Survey of Jails; Deaths in Custody Reporting Program—Local Jails; Survey of Jails in Indian Country.

3. The agency form number, if any, and the applicable component of the Department sponsoring the collection: This revision will only affect pre-data collection verification calls to local jails for the Deaths in Custody Reporting Program—Local Jails collection, and will not require formal changes to any data collection forms.

4. Affected public who will be asked or required to respond, as well as a brief abstract: County and city jail authorities. This revision will not impact the tribal jail respondents. The Deaths in Custody Reporting Program—Local Jails obtains annual data from all local jails on the number and nature of deaths of inmates in the custody of the jail. Please refer to the original OMB package (1121-0094) for a full description of the collection.

Each year, prior to the next cycle of the Deaths in Custody Reporting Program—Local Jails data collection, verification calls are made to jail respondents to learn about changes in the jail jurisdiction point of contact and leadership, facility eligibility, closures and openings, and the feasibility of capturing information on inmate and facility characteristics in the Deaths in Custody Reporting Program (DCRP). BJS requests the addition of 4 questions to the verification calls made to the 3,000 local jails to: (1) Determine whether or not their data management systems maintain an aggregate count of non-U.S. citizens held in their facilities, by conviction status; and (2) assess jails' ability and willingness to report these counts to BJS.

5. An estimate of the total number of respondents and the amount of time estimated for an average respondent to respond: 3,000 respondents, each taking an additional 6 minutes during annual verification calls for the Deaths in Custody Reporting Program—Local Jails collection. This brings the total burden per DCRP respondent to about 30 minutes each year or 1 hour if the jail has a death and submits an individual-level death record.

6. An estimate of the total public burden (in hours) associated with the collection: There is an estimated 3,245 total burden hours associated with all three jail collections annually.

If additional information is required contact: Melody Braswell, Department Clearance Officer, United States Department of Justice, Justice Management Division, Policy and Planning Staff, Two Constitution Square, 145 N Street NE., 3E.405A, Washington, DC 20530.

Dated: May 11, 2017.
Melody Braswell,
Department Clearance Officer for PRA, U.S. Department of Justice.

[FR Doc. 2017-09878 Filed 5-15-17; 8:45 am]

BILLING CODE 4410-18-P